DEPARTMENT OF JUSTICE

Antitrust Division

Notice Pursuant to the National Cooperative Research and Production Act of 1993—NanoCable ATP Project No. 70NANB7H7043

Notice is hereby given that, on November 15, 2007, pursuant to Section 6(a) of the National Cooperative Research and Production Act of 1993, 15 U.S.C. 4301 et seq. (“the Act”), NanoCable ATP Project No. 70NANB7H7043 has filed written notifications simultaneously with the Attorney General and the Federal Trade Commission disclosing (1) the identities of the parties and (2) the nature and objectives of the venture. The notifications were filed for the purpose of invoking the Act's provisions limiting the recovery of antitrust plaintiffs to actual damages under specified circumstances.

Pursuant to Section 6(b) of the Act, the identifies of the parties to the venture are: NanoRidge Materials, Inc., Houston, TX; and The Boeing Company, Huntington Beach, CA. The general area of planned activity for NanoCable ATP Project No. 70NANB7H7043 is to develop a lightweight electrically conductive wire/cable utilizing conductive carbon nanotubes embedded in a polymer matrix.

The activities of this venture project will be partially funded by an award from the Advanced Technology Program, National Institute of Standards and Technology, U.S. Department of Commerce.

Patricia A. Brink,
Deputy Director of Operations, Antitrust Division.

[FR Doc. 08-559 Filed 2-7-08; 8:45 am]

BILLING CODE 4410-11-M